DEPARTMENT OF HEALTH AND HUMAN SERVICES

45 CFR Part 96

RIN 0930-AA04

Application Deadline for SAPT Block Grant Program

AGENCY: HHS.

ACTION: Notice of proposed rule making.

SUMMARY: The Substance Abuse and Mental Health Services Administration (SAMHSA) (formerly, the Alcohol, Drug Abuse and Mental Health Administration (ADAMHA)) has permitted applicants for its Substance Abuse Prevention and Treatment (SAPT) Block Grant program to submit an application for a grant as late as March 31 of the fiscal year for which it is applying. Starting with the fiscal year 2001 applications, SAMHSA is proposing a new date for receipt of the applications for SAPT Block Grants of October 1 of the fiscal year for which Block Grant funding is being requested. However, the deadline for two application components required to be submitted by that due date may be extended for a limited period, not to extend beyond December 31 of the same fiscal year when good cause is demonstrated.

DATES: Written comments must be received on or before March 20, 2000.

ADDRESSES: Written comments on the proposed rule must be sent to Thomas M. Reynolds, Room 13C-20, Parklawn Bldg., 5600 Fishers Lane, Rockville, MD 20857.

FOR FURTHER INFORMATION CONTACT: Thomas M. Reynolds. (301) 443-0179.

SUPPLEMENTARY INFORMATION: When SAMHSA first implemented the SAPT Block Grant program, a primary concern was affording States sufficient time to develop the increased information required to apply for a grant under this program as compared to the generally less detailed application required under the predecessor ADMS Block Grant program administered by ADAMHA ¹. This was accomplished by affording States the opportunity to delay submitting their applications to as late as March 31, fully six months into the fiscal year for which funding is requested (See 45 CFR 96.122(d). This relatively late receipt date results in insufficient time to administer the SAPT Block Grant program in accordance with all the governing provisions of law. This is most noted under circumstances calling for the clarification of application data and, if necessary, the conduct of hearings related to certain adverse decisions needing resolution by the end of the fiscal year. A tentative adverse decision requires that the applicant be provided an opportunity for a hearing consistent with section 1945(e) of the Public Health Service (PHS) Act, and there remains, as a practical matter, insufficient time in the fiscal year to provide a hearing, reach a final decision, and possibly redistribute withheld funds to the remaining applicants as provided by law (see section 1944 of the PHS Act).

¹ The ADAMHA Reorganization Act, Pub. L. 102-321 (July 10, 1992), established SAMHSA as a successor-in-interest to ADAMHA for the purpose, inter alia, of administering the services oriented functions previously the responsibility of ADAMHA and created two block grant programs including the SAPT program (now administered by SAMHSA) to replace the ADMS Block Grant program.

States are now fully aware of the application requirements and can reasonably be expected to respond to an earlier submission date. However, if a State determines that it will not be able to submit by October 1 either the report as required at 45 CFR 96.130(e) on Synar enforcement efforts and State success in reducing youth access to tobacco products during the preceding fiscal year, or the information on State expenditures during the preceding year as required at 45 CFR 96.134(d), the State may request an extension of the due date(s) for a limited period, not to extend past December 31 of the fiscal year for which application is made. The request for the extension must be signed by the official with the authority to apply for the grant or the Governor, and must be submitted no later than September 1 of the prior fiscal year. The extension request must state for which requirement the extension is requested; include an explanation of why the State is unable to comply with the due date of October 1; state the date of submission the State is requesting; and discuss whether there are steps the State can take to avoid requiring an extension in future years.

Due date extensions for these requirements shall be granted in writing by the SAMHSA official with delegated authority to grant the extension.

The Department considered several alternatives for addressing the issue of timely application submission including an inflexible deadline without provision for extension, and no change in the current due date in recognition of State indications that timely submission of these reports can be more difficult for some States than others. It is SAMHSA's intent to move the application date to October 1 as proposed by this notice unless comments provide compelling reasons to do otherwise. Therefore, States should be preparing to submit their applications by October 1, 2000 for fiscal year 2001 funding.

Economic Impact

This rule does not have cost implications for the economy of $100 million or otherwise meet the criteria for a major rule under Executive Order 12291, and therefore does not require a regulation impact analysis. Further, this regulation will not have a significant impact on a substantial number of small entities, and therefore does not require a regulatory flexibility analysis under the Regulatory Flexibility Act of 1980.

Federalism Impact

This regulation would require States to submit their applications for Substance Abuse Prevention and Treatment Block Grant funds by October 1 of the fiscal year for which they are seeking funds. States in the past have had until March 31 to submit the application. This late due date (March 31) does not give the agency sufficient time to carry out its responsibilities under the law.

SAMHSA consulted with the State organizations in the development of legislative proposals concerning the application due date and in the crafting of this NPRM. Most States indicated that they have become familiar with the application and that it would not be an undue hardship on them to meet this new requirement if there can be an extension until December 31 with regard to both maintenance of effort and Synar information. Since proposed Section 96.122(d) allows for such an extension with regard to these elements of the applications, we do not believe that there is a significant Federalism impact.

Regulatory Evaluation

This proposal is not a significant regulatory action under Section 3(f) of the Executive Order 12866 and does not require an assessment of the potential costs and benefits under Section 6(a)(3) of that Order and so has been exempted from review by the Office of Management and Budget under that Order.

Paperwork Reduction Act of 1995

This proposed rule contains information collections which are subject to review by the Office of Management and Budget (OMB) under the Paperwork Reduction Act of 1995 (the PRA)(44 U.S.C. 3507(d)). The title, description and respondent description of the information collections are shown in the following paragraphs with an estimate of the annual reporting and recordkeeping burden. Included in the estimate is the time for reviewing instructions, searching existing data sources, gathering and maintaining the data needed, and completing and reviewing the collection of information.

Title: Application Deadline for SAPT Block Grant Program

Description: The Secretary is proposing to issue regulations to change the receipt date of SAPT Block Grant applications starting with the Federal Fiscal Year (FY) 2001 from March 31 to October 1. All elements of the application reporting requirements would be due October 1. However, States may request an extension of time for reporting State expenditures necessary to determine compliance with the Maintenance of Effort (MOE) requirement and/or to submit required Synar information for a period up to December 31. This change will allow HHS to review grant applications and make grant awards to all States earlier in the fiscal year. It will also provide additional time for sufficient planning in the event of any penalty actions that may be required, while recognizing the inability of some States to report the MOE and Synar data prior to December 31.

Description of Respondents: State and tribal governments.

Response burden estimate: Information collection language for the current rule is approved by OMB under control number 0930-0165 (Synar reporting requirements on youth access to tobacco) and control number 0930-0162 (for all other aspects of the annual application). The Substance Abuse Prevention and Treatment Block Grant uniform application format for FY 2000-FY 2002 is approved by OMB under control number 0930-0080. None of the specifics of these reporting requirements are being changed. Only the due date of the uniform application is impacted by this proposed rule.

At present, approximately half of all eligible block grant applicants routinely submit their uniform application for block grant funds on or before September 30 of the fiscal year preceding the fiscal year for which they are applying for funds. Approximately one half of all eligible applicants submit their uniform applications between October 1 and March 31 of the fiscal year for which block grant funds are being made available.

SAMHSA recognizes that the earlier receipt date will have an impact on the applicants, particularly those that have typically submitted their uniform application after September 30. Since the contents of the uniform application are not changing, it is difficult to estimate the additional response burden and associated costs for the first year of this change of receipt date (no additional burden is estimated for this change for future years). Therefore, a nominal response burden for each applicant of one hour is provided. In addition, it is conservatively assumed that all applicants will request an extension of the MOE and Synar reporting, and one hour is estimated for preparation of such a request.

Thus, for the first year of implementation, total response burden is estimated at 120 hours. For subsequent years, the burden estimate is 60 hours. Comments on these estimates are invited.

Annual Reporting Burden
45 CFR Citation and Purpose | No. of respondents | Responses per respondent | Hours per response | Total hours
96.122(d) Due date for annual report | 60 | 1 | 1 | 60
96.122(d) Extension requests associated with MOE and Synar | 60 | 1 | 1 | 60
Total | 60 |  |  | 120

As required by section 3507(d) of the PRA, the Secretary has submitted a copy of this proposed rule to OMB for its review. Comments on the information collection requirements are specifically solicited in order to: (1) Evaluate whether the proposed collection of information is necessary for the proper performance of HHS functions, including whether the information will have practical utility; (2) evaluate the accuracy of the HHS estimate of the burden of the proposed collection of information, including the validity of the methodology and assumptions used; (3) enhance the quality, utility, and clarity of the information to be collected; and (4) minimize the burden of the collection of information on those who are to respond, including the use of appropriate automated, electronic, mechanical, or other technological collection techniques or other forms of information technology.

OMB is required to make a decision concerning the collection of information contained in these proposed regulations between 30 and 60 days after publication of this document in the Federal Register. Therefore, a comment to OMB is best assured of having its full effect if OMB receives it within 30 days of publication. This does not affect the deadline for the public to comment to HHS on the proposed regulations.

Organizations and individuals desiring to submit comments on the information collection requirements should direct them to the Office of Information and Regulatory Affairs, OMB. (address above).

List of Subjects in 45 CFR Part 96

Administrative practice and procedure, Grant programs—health, Health care.

Dated: January 31, 2000.
Donna E. Shalala,
Secretary.

For the reasons set forth in the preamble, the Department proposes to amend Subpart L of Part 96 of Title 45 of the Code of Federal Regulations as follows:

PART 96—BLOCK GRANTS

Subpart L—Substance Abuse Prevention and Treatment Block Grant

1. The authority citation for Subpart L of Part 96 continues to read as follows:

Authority: 42 U.S.C. 300x-21 to 300x-35 and 300x-51 to 300x-64.

2. Section 96.122 (d) is revised to read as follows:

§ 96.122 Application content and procedure.

* * * * *

(d) The application (in substantial compliance with the statutory and regulatory provisions for the Block Grant) shall for fiscal years through fiscal year 2000, be submitted no later than March 31 of the fiscal year for which the State is applying. Beginning with the fiscal year 2001 application, all required components for a complete application must be submitted no later than October 1 of the fiscal year for which Block Grant funding is being requested. The submission date for the report required by § 96.130(e) to be submitted with the application and/or the information required by § 96.134(b) may be extended for good cause shown in a request signed by the official authorized to apply for the Block Grant funding on behalf of the State, or the Governor. The State should request an extension for only the amount of time necessary. In no event will an extension be granted past December 31 of the fiscal year for which application is made. All requests to extend the due date must be submitted no later than September 1 of the prior fiscal year and addressed to the same address as specified for the grant application. Extension requests must state for which requirement an extension is sought, the date of submission sought, why the State is unable to meet the October 1 due date, and discuss if there are steps the State will be able to take to avoid requiring an extension in future years, or if not, why not. Extension requests complying with these requirements will be acted upon no later than September 20 of the fiscal year prior to the year for which application is to be made. Due date extensions regarding the § 96.130(e) report and regarding the § 96.134(d) information shall only be granted in writing. In order for an applicant to have complied with the requirements of section 1932(a)(1) of the Public Health Service Act (42 U.S.C. 300x-32(a)(2)), it is necessary that the components of the application have been submitted by the date indicated or as extended pursuant to the above.

* * * * *

[FR Doc. 00-2444 Filed 2-1-00; 10:25 am]

BILLING CODE 4162-20-P